DEPARTMENT OF THE INTERIOR

National Park Service

National Register of Historic Places; Notification of Pending Nominations

Nominations for the following properties being considered for listing in the National Register were received by the National Park Service before February 3, 2001. Pursuant to section 60.13 of 36 CFR part 60 written comments concerning the significance of these properties under the National Register criteria for evaluation may be forwarded to the National Register, National Park Service, 1849 C St. NW, NC400, Washington, DC 20240. Written comments should be submitted by March 1, 2001.

Arkansas

Boone County:

Bear Creek Motel, (Arkansas Highway History and Architecture MPS) US 65, Bear Creek Springs, 01000175

Pulaski County:

Capitol View Neighborhood Historic District, Roughly bounded by Riverview Dr., S. Schiller St., W. 7th St. and Woodrow St., Little Rock, 01000176

Florida

Hillsborough County:

Turkey Creek High School, Historic, 5005 Turkey Creek Rd., S, Plant City, 01000177

Illinois

Fayette County:

Dycus, Floyd and Glenora, House, 305 S. Second St., Brownstown, 01000179

Lake County:

Ree, Mrs. Kersey Coates, House, 1315 N. Lake Rd., Lake Forest, 01000178

Kansas

Barton County:

Abel House, (Lustron Houses of Kansas MPS) 2601 Passeo, Great Bend, 01000180

Nagel House, (Lustron Houses of Kansas MPS) 1411 Wilson St., Great Bend, 01000181

Clark County:

Stein House, (Lustron Houses of Kansas MPS) 420 Cedar St., Ashland, 01000182

Ellis County:

Drees House, (Lustron Houses of Kansas MPS) 00 E. 19th St., Hays, 01000183

Gallagher House, (Lustron Houses of Kansas MPS) 310 E. 20th St., Hays, 01000184

Ellsworth County:

Weinhold House, (Lustron Houses of Kansas MPS) Address Restricted, Wilson, 01000185

Harvey County:

Coleman House, (Lustron Houses of Kansas MPS) 408 Mead St., Newton, 01000186

Jackson County:

McFadden House, (Lustron Houses of Kansas MPS) 315 W. 5th St., Holton, 01000187

Pawnee County:

Ooten House, (Lustron Houses of Kansas MPS) 507 W 15th St., Larned, 01000188

Patterson House, (Lustron Houses of Kansas MPS) 841 W 8th St., Larned, 01000189

Russell County:

Mann House, (Lustron Houses of Kansas MPS) 614 Oakdale, Russell, 01000190

Woelk House, (Lustron Houses of Kansas MPS) 615 Sunset, Russell, 01000191

Smith County:

Grimes House, (Lustron Houses of Kansas MPS) 214 Park St., Smith Center, 01000192

Martyn House, (Lustron Houses of Kansas MPS) 216 Park St., Smith Center, 01000195

Trego County:

Stradal House, (Lustron Houses of Kansas MPS) 409 N 13th St., Wa Keeney, 01000193

Massachusetts

Barnstable County:

Old Town Center Historic District, Roughly along Locust Public Rd. and Salt Pond Rd., Eastham, 01000196

Essex County:

Rowley Village Forge Site, Address Restricted, Boxford, 01000201

Missouri

Greene County:

Commercial Street Historic District, Roughly Commercial St., from Lyons to Washington, Springfield, 01000202

Montana

Glacier County:

Lee Creek Snowshoe Cabin, (Glacier National Park MPS) NE corner of Glacier National Park, Glacier National Park, 01000203

Carol D. Shull,
Keeper of the National Register Of Historic Places.

New Hampshire

Hillsborough County:

Hollis Village Historic District, Roughly parts of Ash St., Broad St., Cleasby Ln., Depot Rd., Main St., Monument Sq. and Silver Lake Rd., Hollis, 01000204

Strafford County:

Jenness Farm, 626 Pickering Rd., Rochester, 01000206

Sullivan County:

Blow-Me-Down Grange, 1071 NH 12-A, Plainfield, 01000205

Ohio

Cuyahoga County:

William Tricker Inc. Historic District, 7125 Tanglewood Rd., Independence, 01000200

Darke County:

Clemens, James and Sohia, Farmstead, 467 Stingley Rd., Palestine, 01000199

Franklin County:

Gelpi, Eleanor A., House, 7125 Roverside Dr., Dublin, 01000198 Tosheff's Restaurant and Hotel, 1943-1953 Parsons Ave., Columbus, 01000197

Oklahoma

Osage County:

Chapman—Barnard Ranch Headquarters, 1511 Cty Rte. 4201, Pawhuska, 01000208

Stephens County:

Simmons, Louis B., House, 401 N. 9th ST., Duncan, 01000207

Texas

Jasper County:

Aldridge Sawmill, (Early Logging Industry in East Texas MPS) Angelina National Forest., S end of Forest System Rd., Zavalla, 01000209

Vermont

Addison County:

First Congregational Church, (Religious Buildings, Sites and Structures in Vermont MPS) 464 Main St., Orwell, 01000210

Salisbury Congregational Church, (Religious Buildings, Sites and Structures in Vermont MPS) West Salisbury Rd., Salisbury, 01000212

Shoreham Congregational Church, (Religious Buildings, Sites and Structures in Vermont MPS) School St., Shoreham, 01000211

Chittenden County:

First Baptist Church, (Religious Buildings, Sites and Structures in Vermont MPS) 81 St. Paul St., Burlington, 01000217

Methodist Episcopal Church of Winooski, (Religious Buildings, Sites and Structures in Vermont MPS) 24 W Allen St., Winooski, 01000216

Franklin County:

Enosburg Congregational Memorial Church, (Religious Buildings, Sites and Structures in Vermont MPS) TH No. 2, Enosburg, 01000222

First Congregational Church of Swanton, (Religious Buildings, Sites and Structures in Vermont MPS) 42 Academy St., Swanton, 01000220

Georgia Plain Baptist Church, (Religious Buildings, Sites and Structures in Vermont MPS) Stonebridge Rd. and Georgia Plain Rd., Geogia, 01000213

Methodist Episcopal Church, (Religious Buildings, Sites and Structures in Vermont MPS) 25 Grand Ave., Swanton, 01000219

Parish of the Holy Trinity, (Religious Buildings, Sites and Structures in Vermont MPS) 38 Grand Ave., Swanton, 01000221

St. George's Catholic Church, (Religious Buildings, Sites and Structures in Vermont MPS) VT 25, Bakersfield, 01000218

Grand Isle County:

Congregational Church—Grand Isle, (Religious Buildings, Sites and Structures in Vermont MPS) 12 Hyde Rd., Grand Isle, 01000224

Methodist Episcopal Church of Isle La Motte, (Religious Buildings, Sites and Structures in Vermont MPS) 67 Church St., Isle La Motte, 01000223

Orange County:

South Tunbridge Methodist Episcopal Church, (Religious Buildings, Sites and Structures in Vermont MPS) VT 110. 1/3 mi. N of Royalton town line, Tunbridge, 01000215

Windsor County:

St. Pauls's Episcopal Church, (Religious Buildings, Sites and Structures in Vermont MPS) Jct. of Bridge St. and VT 14, Royalton, 01000214

A request for Removal has been made for the following Resources:

Wisconsin

Dodge County:

Dodge County Courthouse 220 E. State St. Juneau, 82000661

Vilas County:

Presque Isle State Graded School Jct. Of Co. Trunk Hwy. B and School Loop St. Presque Isle, 93000158

[FR Doc. 01-3701 Filed 2-13-01; 8:45 am]

BILLING CODE 4310-70-P